DEPARTMENT OF COMMERCE

Submission for OMB Review; Comment Request

DOC has submitted to the Office of Management and Budget (OMB) for clearance the following proposal for collection of information under the provisions of the Paperwork Reduction Act of 1995, Pub. L. 104-13.

Bureau: International Trade Administration.

Title: Participation Agreement, Trade Mission Application and Conditions of Participation.

Agency Form Numbers: ITA-4008P, ITA-4008P-1 and ITA-4008P-A.

OMB Number: 0625-0147.

Type of Request: Regular Submission.

Burden: 2,792 hours.

Number of Respondents: 7,500.

Avg. Hours Per Response: 20 minutes and 70 minutes.

Needs and Uses: The Department of Commerce's International Trade Administration (ITA) sponsors overseas trade promotion events in which U.S. companies display, demonstrate, and promote their goods and services in foreign markets. These events include trade fairs, trade and seminar missions, and catalogue shows. Form ITA-4008P, Participation Agreement (PA), is the vehicle by which individual firms agree to participate in ITA's trade promotion program, identify the products and/or services they intend to sell or promote, and record their required financial contribution to the Department of Commerce. Together with the relevant “Conditions of Participation” they form a contract between an individual firm and the U.S. Department of Commerce. Form ITA-4008P-1, Trade Mission Application, is used to solicit information only from those firms seeking to participate in Department of Commerce overseas trade missions covered by the Statement of Policy Governing Overseas Trade Missions of the Department of Commerce issued on March 3, 1997. The Secretary's policy statement concluded that companies that wish to be considered for participation on a trade mission must meet certain criteria and make certain certifications. The information collected permits the Department to determine the eligibility and appropriateness of a firm's participation relative to other applicants and to the participation criteria set out in the Secretary's policy statement. This information includes the name and title of the individual(s) participating in the mission, number of employees, U.S. content of the applicant's products, export experience of the firm, line of business, and objectives of participation. Together with the Form ITA-4008P, “Participation Agreement” and ITA-4008P-A, “Conditions of Participation”, ITA-4008P-1, Trade Mission Application forms a contract between an individual firm and the U.S. Department of Commerce. For trade missions led by the Secretary of Commerce, a Supplemental Form for Secretarial Trade Missions is added to the trade mission application. For security purposes and to protect the safety and integrity of the trade mission and its participants, a background screening is conducted on each trade mission applicant. The information requested for security purposes is not used for any other purpose. The Secretarial Trade Mission Supplement also collects the type of business entity and date and state of formation. This information is used to assist in verifying the legitimacy of the company. Finally, the addendum includes a request for biographical and company information. This information may be used for promotional purposes.

Affected Public: Businesses or other for-profits.

Frequency: On occasion.

Respondent's Obligation: Required to obtain or retain a benefit, voluntary.

OMB Desk Officer: David Rostker, (202) 395-3897.

Copies of the above information collection proposal can be obtained by calling or writing Diana Hynek, Departmental Paperwork Clearance Officer, (202) 482-0266, Department of Commerce, Room 6625, 14th and Constitution, NW., Washington, DC 20230 or via Internet at dHynek@doc.gov.

Written comments and recommendations for the proposed information collection should be sent to David Rostker, OMB Desk Officer, Room 10202, New Executive Office Building, Washington, DC 20503 within 30 days of the publication of this notice in the Federal Register.

Dated: February 6, 2003.
Madeleine Clayton,
Management Analyst, Office of the Chief Information Officer.

[FR Doc. 03-3376 Filed 2-10-03; 8:45 am]

BILLING CODE 3510-FP-P